DEPARTMENT OF LABOR

Employment and Training Administration

[TA-W-73,416]

Desoto Mills LLC, Fort Payne, AL; Notice of Negative Determination Regarding Application for Reconsideration

By application dated June 1, 2010, a company official requested administrative reconsideration of the Department's negative determination regarding eligibility to apply for Trade Adjustment Assistance (TAA), applicable to workers and former workers of the subject firm. The determination was signed on April 28, 2010, and the Notice of determination was published in the Federal Register on May 28, 2010 (75 FR 30072).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination applicable to workers and former workers at Desoto Mills, LLC, a Subsidiary of Fruit of the Loom, Fort Payne, Alabama, was based on the findings that there was neither an increase in imports nor a shift/acquisition by the workers' firm that contributed importantly to the worker group separations; the subject workers are not secondarily-affected workers; and the workers' firm was not identified in an affirmative finding of injury by the International Trade Commission.

In the request for reconsideration, the petitioner stated that the steady decline in sales and production at the subject firm “has caused the entire distribution and administrative support operation to be consolidated into existing Fruit of the Loom * * * locations outside the Desoto Mills Plant.” The petitioner compares the situation at this location with similar shifts of production and subsequent downsizing of administrative and distribution staff that have resulted in TAA certifications (TA-W-63,167, TA-W-71,012, TA-W-72,253, and TA-W-73,414).

The initial investigation revealed that there was a shift of production of socks from the subject location in 2006 and 2007, and that, following the shift, distribution work at the Fort Payne, Alabama facility continued with the workers processing foreign-produced socks.

Additional information provided by the applicant revealed that, since March 2007, the subject facility has not supported a domestic, affiliated production facility and no significant degree of the supply of distribution services has been shifted to a foreign country.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 23rd day of June, 2010.
Del Min Amy Chen,
Certifying Officer, Division of Trade Adjustment Assistance.

[FR Doc. 2010-16420 Filed 7-6-10; 8:45 am]

BILLING CODE 4510-FN-P